DEPARTMENT OF DEFENSE

Department of the Navy

Notice of Intent To Grant Exclusive Patent License to Annapolis Remote Acquisitions, LLC

AGENCY: Department of the Navy, DoD.

ACTION: Notice.

SUMMARY: The Department of the Navy hereby gives notice of its intent to grant to Annapolis Remote Acquisitions, LLC, a revocable, non-assignable, partially exclusive license to practice throughout the United States the Government-owned inventions described in U.S. Patent No. 6,717,525, TACTICAL VECTORING EQUIPMENT; U.S. Patent No. 6,820,025, METHOD AND APPARATUS FOR MOTION TRACKING OF AN ARTICULATED RIGID BODY; U.S. Patent No. 6,980,168, ULTRA-WIDEBAND ANTENNA WITH WAVE DRIVER AND BEAM SHAPER; U.S. Patent No. 7,089,148, METHOD AND APPRATUS FOR MOTION TRACKING OF AN ARTICULATED RIGID BODY; and U.S. Patent No. 7,154,431, SIGNAL SYNTHESIZER AND METHOD THEREFOR.

DATES: Anyone wishing to object to the grant of this license has fifteen (15) days from the date of this notice to file written objections along with supporting evidence, if any.

ADDRESSES: Written objections are to be filed with the President, Naval Postgraduate School; Office of Counsel, Code 00C, 1 University Circle, Room 131, Monterey, CA 93943.

FOR FURTHER INFORMATION CONTACT: Danielle Kuska, Director, Research and Sponsored Programs Office, Office of the Associate Provost and Dean of Research; Halligan Hall, Room 222; Naval Postgraduate School; Monterey, CA 93943-5138; telephone: 831-656-2209 or e-mail: dkuska@nps.edu.

(Authority: 35 U.S.C. 207, 37 CFR Part 404)

Dated: August 29, 2007.
T.M. Cruz,
Lieutenant, Judge Advocate General's Corps, U.S. Navy, Federal Register Liaison Officer.

[FR Doc. E7-17510 Filed 9-4-07; 8:45 am]

BILLING CODE 3810-FF-P